DEPARTMENT OF COMMERCE

International Trade Administration

[A-851-806, A-533-940]

Certain Freight Rail Couplers and Parts Thereof From the Czech Republic and India: Postponement of Preliminary Determinations in the Less-Than-Fair-Value Investigations

AGENCY: Enforcement and Compliance, International Trade Administration, Department of Commerce.

DATES: Applicable February 23, 2026.

FOR FURTHER INFORMATION CONTACT: Sofia Pedrelli at (202) 482-4310, or Andrew Hart at (202) 482-1058, Office II (the Czech Republic), Eliza DeLong (202) at 482-3878, or Colin Thrasher at (202) 481-3004, Office V (India), AD/CVD Operations, Enforcement and Compliance, International Trade Administration, U.S. Department of Commerce, 1401 Constitution Avenue NW, Washington, DC 20230.

SUPPLEMENTARY INFORMATION:

Background

On August 12, 2025, the U.S. Department of Commerce (Commerce) initiated less-than-fair-value (LTFV) investigations of imports of certain freight rail couplers and parts thereof (freight rail couplers) from the Czech Republic and India.¹ Due to the lapse in appropriations and Federal Government shutdown, on November 14, 2025, Commerce tolled all deadlines in administrative proceedings by 47 days.² Additionally, due to a backlog of documents that were electronically filed via Enforcement and Compliance's Antidumping and Countervailing Duty Centralized Electronic Service System (ACCESS) during the Federal Government shutdown, on November 24, 2025, Commerce tolled all deadlines in administrative proceedings by an additional 21 days.³ Currently, the preliminary determinations are due no later than March 9, 2026.⁴

¹ See Certain Freight Rail Couplers and Parts Thereof from the Czech Republic and India: Initiation of Less-Than-Fair-Value Investigations, 90 FR 40059 (August 18, 2025) (Initiation Notice).

² See Memorandum, “Deadlines Affected by the Shutdown of the Federal Government,” dated November 14, 2025.

³ See Memorandum, “Tolling of All Case Deadlines,” dated November 24, 2025.

⁴ Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On December 9, 2025, the petitioner ⁵ submitted a timely request that Commerce postpone the preliminary determinations in these LTFV investigations.⁶ The petitioner stated that it requests postponement so that Commerce can fully analyze the forthcoming questionnaire responses of the mandatory respondents and issue supplemental questionnaires, as necessary.⁷

⁵ The petitioner is the Coalition of Freight Coupler Producers.

⁶ See Petitioner's Letter, “Request to Postpone Preliminary Determination,” dated December 9, 2025.

⁷ Id.

For the reasons stated above and because there are no compelling reasons to deny the request, in accordance with section 733(c)(1)(A) of the Act, Commerce is postponing the deadline for the preliminary determinations by 50 days (i.e., 190 days after the date on which these investigations were initiated plus an additional 68 days from tolling).⁸ As a result, Commerce will issue its preliminary determinations no later than April 27, 2026. In accordance with section 735(a)(1) of the Act and 19 CFR 351.210(b)(1), the deadline for the final determinations of these investigations will continue to be 75 days after the date of the preliminary determinations, unless postponed at a later date.

⁸ See Memoranda, “Deadlines Affected by the Shutdown of the Federal Government,” dated November 14, 2025; and “Tolling of All Case Deadlines,” dated November 24, 2025.

Notification to Interested Parties

This notice is issued and published pursuant to section 733(c)(2) of the Act and 19 CFR 351.205(f)(1).

Dated: February 17, 2026.
Christopher Abbott,
Deputy Assistant Secretary for Policy and Negotiations, performing the non-exclusive functions and duties of the Assistant Secretary for Enforcement and Compliance.

[FR Doc. 2026-03481 Filed 2-20-26; 8:45 am]

BILLING CODE 3510-DS-P